DEPARTMENT OF TRANSPORTATION

Federal Aviation Administration

Notice of Passenger Facility Charge (PFC) Approvals and Disapprovals

AGENCY: Federal Aviation Administration (FAA), DOT.

ACTION: Monthly Notice of PFC Approvals and Disapprovals. In May 2002, there were six applications approved. This notice also includes information on one application, approved in April 2002, inadvertently left off the April 2002 notice. Additionally, 21 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City and Borough of Juneau, Juneau, Alaska.

Application Number: 02-06-C-00-JNU.

Application Type: Impose and use a PFC.

PFC Level: $4.50.

Total PFC Revenue Approved in This Decision: $2,425,779.

Earliest Charge Effective Date: July 1, 2002.

Estimated Charge Expiration Date: May 1, 2005.

Class of Air Carriers Not Required To Collect PFC's: None.

Brief Description of Projects Approved for Collection and Use:

Rehabilitate access road.

Terminal expansion feasibility study/design, phase I.

Brief Description of Projects Approved for Collection:

Snow removal equipment building.

Runway safety area phase II—mitigation and construction.

Northwest quadrant development.

Decision Date: April 30, 2002.

FOR FURTHER INFORMATION CONTACT: Debbie Roth, Alaska Region Airports Division, (907) 271-5443.

Public Agency: Beaufort County Council, Hilton Head, South Carolina.

Application Number: 02-03-U-00-HXD.

Application Type: Use PFC revenue.

PFC Level: $3.00.

Total PFC Revenue Approved for Use in This Decision: $2,076,657.

Charge Effective Date: December 1, 2000.

Estimated Charge Expiration Date: October 1, 2007.

Class of Air Carriers Not Required To Collect PFC's: No change from previous decision.

Brief Description of Projects Approved for Use:

Land acquisition (10 acres).

General aviation development.

Decision Date: May 3, 2002.

FOR FURTHER INFORMATION CONTACT: Aimee McCormick, Atlanta Airports District Office, (404) 305-7153.

Public Agency: City of Dayton, Ohio.

Application Number: 01-04-C-00-DAY.

Application Type: Impose and use a PFC.

PFC Level: $4.50.

Total PFC Revenue Approved in This Decision: $64,544,267.

Earliest Charge Effective Date: July 1, 2003.

Estimated Charge Expiration Date: December 1, 2013.

Class of Air Carriers Not Required To Collect PFC's: All air taxi/commercial operators.

Determination: Approved. Based on information contained in the public agency's application, the FAA has determined that the proposed class accounts for less than 1 percent of the total annual enplanements at Dayton International Airport (DAY).

Brief Description of Projects Approved for Collection at Day and Use at Day:

Runway pavement rehabilitation.

Environmental impact study.

Deicing system improvements.

Back-up generator—airfield.

Aircraft rescue and firefighting (ARFF) station renovation and expansion.

Taxiways A and Z rehabilitation.

Taxiways H, K, E, C, L, and V rehabilitation.

Cargo and terminal aircraft apron rehabilitation.

Land acquisition—approach and runway protection.

Airfield snow removal equipment.

ARFF vehicle replacement (Rescue 22).

Back-up generator—terminal.

Terminal gate expansion.

Terminal Drive and related roads rehabilitation.

Southwest terminal apron, northeast deice apron, and perimeter road.

Part 150 noise study, phases 1, 2, and final.

Airport police office renovation.

Brief Description of Projects Approved for Collection at Day and Use at Dayton-Wright Brothers Airport:

Land acquisition and approach protection for runway 20.

Runway 2/20 and other pavement rehabilitation.

Brief Description of Projects Approved in Part for Collection at Day and Use at Day: Geographical information system (GIS) implementation and computerized airfield lighting and control system (CALCS).

Determination: Partially approved. The public agency did not provide enough information to allow the FAA to determine that the GIS is adequately justified in accordance with § 158.15(c) and paragraph 4-8 of FAA Order 5500.1, Passenger Facility Charge (August 9, 2001). Nor could the FAA determine from the information provided by the public agency that the GIS met one of the PFC objectives in accordance with § 158.15(a).

Decision Date: May 9, 2002.

For Further Information Contact: Arlene B. Draper, Detroit Airports District Office, (734) 487-7282.

Public Agency: City of Cleveland, Ohio.

Application Number: 02-09-U-00-CLE.

Application Type: Use PFC revenue.

PFC Level: $3.00.

Total PFC Revenue Approved for Use in This Decision: $3,410,400.

Charge Effective Date: June 1, 1999.

Estimated Charge Expiration Date: December 1, 2007.

Class of Air Carriers Not Required To Collect PFC's: No change from previous decision.

Brief Description of Projects Approved for Use:

Analex office building demolition.

Installation of instrument landing system on runway 6L/24R.

Decision Date: May 16, 2002.

For Further Information Contact: Arlen B. Draper, Detroit Airports District Office, (734) 487-7282.

Public Agency: City of Redmond, Oregon.

Application Number: 02-04-C-00-RDM.

Application Type: Impose and use a PFC.

PFC Level: $4.50.

Total PFC Revenue Approved in This Decision: $1,968,545.

Earliest Charge Effective Date: June 1, 2003.

Estimated Charge Expiration Date: April 1, 2006.

Class of Air Carriers Not Required To Collect PFC's: Air taxis.

Determination: Approved. Based on information contained in the public agency's application, the FAA has determined that the proposed class accounts for less than 1 percent of the total enplanements at Roberts Field.

Brief Description of Projects Approved for Collection and Use:

Expand terminal access road.

Conceptual design of terminal expansion.

Install perimeter security fence.

Wildlife mitigation.

Design and rehabilitate air carrier terminal apron.

Rock obstruction removal.

Decision Date: May 24, 2002.

For Further Information Contact: Suzanne Lee-Pang, Seattle Airports District Office, (425) 227-2654.

Public Agency: Yakima Air Terminal Board, Yakima, Washington.

Application Number: 02-08-C-00-YKM.

Application Type: Impose and use a PFC.

PFC Level: $34.00.

Total PFC Revenue Approved in This Decision: $55,000.

Earliest Charge Effective Date: March 1, 2004.

Estimated Charge Expiration Date: July 1, 2004.

Class of Air Carriers Not Required To Collect PFC's: Air Taxi/commercial operators.

Determination: Approved. Based on information contained in the public agency's application, the FAA has determined that the proposed class accounts for less than 1 percent of the total annual enplanements at Yakima Air Terminal—McAllister Field.

Brief Description of Project Approved for Collection and Use: 2002 airport security improvement project.

Decision Date: May 24, 2002.

For Further Information Contact: Suzanne Lee-Pang, Seattle Airports District Office, (425) 227-2654.

Public Agency: Monterey Peninsula Airport District, Monterey, California.

Application Number: 02-08-C-00-MRY.

Application Type: Impose and use a PFC.

PFC Level: $3.00.

Total PFC Revenue Approved in This Decision: $320,122.

Earliest Charge Effective Date: August 1, 2002.

Estimated Charge Expiration Date: May 1, 2003.

Class of Air Carriers Not Required To Collect PFC's: Unscheduled Part 135 Air taxi operators.

Determination: Approved. Based on information contained in the public agency's application, the FAA has determined that the proposed class accounts for less than 1 percent of the total annual enplanements at Monterey Peninsula Airport.

Brief Description of Projects Approved for Collection and Use:

Airport biological assessment for airport roadway circulation projects.

Improve airport drainage.

Improve airport emergency assess gate.

Residential soundproofing, phase 8.

Brief Description of Disapproved Project: Environmental impact report for airport roadway circulation project.

Determination: This project is not eligible as a stand-alone document in accordance with FAA Order 5050.4A, Airport Environmental Handbook (October 8, 1985).

Brief Description of Withdrawn Project: Airport property map.

Determination: This project was withdrawn by the public agency on April 28, 2002.

Decision Date: May 30, 2002.

For Further Information Contact: Marlys Vandervelde, San Francisco Airports District Office, (650) 876-2806.

Amendments to PFC Approvals
Amendment No. city, state | Amendment approved date | Original approved net PFC revenue | Amended approved net PFC revenue | Original estimated charge exp. date | Amended estimated charge exp. date
97-05-C-01-TYS, Knoxville, TN | 02/12/02 | $1,751,812 | $1,467,737 | 05/01/99 | 05/01/99
¹ 00-05-C-01-SAW, Marquette, MI | 04/04/02 | 369,235 | 335,998 | 11/01/05 | 12/01/02
95-02-C-05-CVG, Covington, KY | 04/26/02 | 76,095,000 | 75,857,000 | 12/01/98 | 11/01/98
98-03-C-05-CVG, Covington, KY | 04/26/02 | 24,261,000 | 24,004,000 | 08/01/99 | 09/01/99
98-04-C-05-CVG, Covington, KY | 04/26/02 | 33,338,000 | 35,198,000 | 07/01/00 | 07/01/00
99-05-C-04-CVG, Covington, KY | 04/26/02 | 18,620,000 | 18,136,000 | 08/01/01 | 02/01/02
01-06-C-01-CVG, Covington, KY | 04/26/02 | 21,117,000 | 20,265,000 | 06/01/02 | 10/01/02
01-07-C-01-CVG, Covington, KY | 04/26/02 | 27,138,000 | 29,046,000 | 06/01/03 | 08/01/03
93-01-C-05-IAD, Chantilly, VA | 05/01/02 | 225,967,396 | 226,410,192 | 05/01/03 | 05/01/03
99-02-C-02-APF, Naples, FL | 05/08/02 | 186,606 | 158,948 | 02/01/01 | 02/01/01
01-03-C-01-APF, Naples, FL | 05/08/02 | 850,000 | 877,658 | 06/01/07 | 04/01/07
99-01-C-02-ANC, Anchorage, AK | 05/13/02 | 15,000,000 | 15,000,000 | 01/01/04 | 01/01/04
96-04-C-04-YAK, Yakima, WA | 05/15/02 | 965,075 | 965,075 | 06/01/00 | 06/01/00
01-03-C-01-FOD, Fort Dodge, IA | 05/21/02 | 284,903 | 290,193 | 04/01/08 | 04/01/08
¹ 92-01-C-03-HLN, Helena, MT | 05/28/02 | 1,877,003 | 1,877,003 | 09/01/04 | 06/01/03
96-02-U-02-HLN, Helena, MT | 05/28/02 | NA | NA | 09/01/04 | 06/01/03
93-01-C-03-DCA, Arlington, VA | 05/28/02 | 166,100,974 | 166,739,069 | 02/01/02 | 04/01/02
94-02-U-03-DCA, Arlington, VA | 05/28/02 | NA | NA | 02/01/02 | 04/01/02
98-04-C-02-DCA, Arlington, VA | 05/28/02 | 73,203,813 | 73,203,813 | 09/01/06 | 09/01/06
93-01-C-06-IAD, Chantilly, VA | 05/29/02 | 226,410,194 | 225,967,400 | 05/01/03 | 01/01/04
¹ 01-05-C-01-DFW, Dallas-Fort Worth, TX | 05/31/02 | 1,681,378,893 | 1,681,378,893 | 12/01/13 | 07/01/11

(Note: The amendments denoted by an asterisk (*) include a change to the PFC level charged from $3.00 per enplaned passenger to $4.50 per enplaned passenger. For Marquette, MI and Dallas, TX, this change is effective on July 1, 2002. For Helena, MT, this change is effective on August 1, 2002.)

Issued in Washington, DC, on August 5, 2002.
Barry Molar,
Manager, Airports Financial Assistance Division.

[FR Doc. 02-20634 Filed 8-13-02; 8:45 am]

BILLING CODE 4910-13-M y